SECURITIES AND EXCHANGE COMMISSION

[Release No. 34-74247A; File No. SR-BATS-2015-09]

Self-Regulatory Organizations; BATS Exchange, Inc.; Notice of Filing of a Proposed Rule Change To Amend Rules 11.9, 11.12, and 11.13 of BATS Exchange, Inc.; Correction

February 26, 2015.

AGENCY: Securities and Exchange Commission

ACTION: Notice; correction.

SUMMARY: The Securities and Exchange Commission published a document in the Federal Register on February 18, 2015, concerning a Notice of Filing of a Proposed Rule Change to Amend Rules 11.9, 11.12, and 11.13 of BATS Exchange, Inc.. The document contained a typographical error.

FOR FURTHER INFORMATION CONTACT: Christopher P. Grobbel, Division of Trading and Markets, Securities and Exchange Commission, 100 F Street NE., Washington, DC 20549, (202) 551-5491.

Correction

In the Federal Register of February 18, 2015 in FR Doc. 2015-3222, on page 8720, in the first and second line in the subheading under the heading “SECURITIES AND EXCHANGE COMMISSION” in the third column, correct the reference to “File No. SR-BATS-2014-09” instead to “File No. SR-BATS-2015-09.”

Jill M. Peterson,
Assistant Secretary.

[FR Doc. 2015-04423 Filed 3-3-15; 8:45 am]

BILLING CODE 8011-01-P